DEPARTMENT OF THE INTERIOR

Bureau of Land Management

[LLNML00000 L14400000.ET0000; NMNM 136149]

Public Notice of Legal Land Descriptions and Map Availability; White Sands Missile Range Withdrawal, New Mexico

AGENCY: Bureau of Land Management, Interior.

ACTION: Notice.

SUMMARY: This Notice provides official publication of the legal land description for the White Sands Missile Range/Fort Bliss addition in New Mexico, which is withdrawn and reserved for military training purposes. The fiscal year 2014 National Defense Authorization Act (NDAA) requires official publication of the legal land description and notification of availability of the White Sands Missile Range map.

DATES: The legal description became effective on December 26, 2013.

ADDRESSES: Copies of the map are available for public review at the Bureau of Land Management, New Mexico State Office, 301 Dinosaur Trail, Santa Fe, NM 87502, and the Bureau of Land Management, Las Cruces District Office, 1800 Marquess Street Las Cruces, NM 88001.

FOR FURTHER INFORMATION CONTACT: Jeanette Martinez, Bureau of Land Management, New Mexico State Office at 505-954-2196 or via email at jeanette@blm.gov. Persons who use a telecommunications device for the deaf (TDD) may call the Federal Relay Service (FRS) at 1-800-877-8339 to contact the above individual during normal business hours. The FRS is available 24 hours a day, 7 days a week, to leave a message or question for the above individual. Replies are provided during normal business hours.

SUPPLEMENTARY INFORMATION: On December 26, 2013, the NDAA for 2014 was passed under Public Law 113-66. Pursuant to Section 2912, Subtitle A, of Title XXIX, Withdrawal, Reservation, and Transfer of Public Lands to Support Military Readiness and Security, this Notice informs the public of the official legal land description for the public lands reserved for use by the Secretary of the Army for military purposes in accordance with Public Land Order No. 833 and added to the exterior boundaries of the White Sands Missile Range by Public Law 113-66. The withdrawn and reserved lands are managed according to the provisions stated under Section 2951 and 2952, Subtitle D of Title XXIX. The public lands withdrawn for the White Sands Missile Range are described as:

New Mexico Meridian, New Mexico

T. 20 S., R. 3 E.,

Sec. 28, S½; secs. 33 and 34.

T. 21 S., R. 3 E.,

Secs. 3, 4, 9, and 10;

Sec. 14, lots 7, 8, 15, 16, 19, 20, 22, 23, and 24, and NW¼;

Sec. 15, lots 1 and 3, N½, SW¼, and N½ SE¼.

The areas described aggregate 5,089.31 acres Dona Ana County.

(Authority: Public Law 113-66)

Melanie Barnes,
Deputy State Director, Lands and Resources.

[FR Doc. 2017-27220 Filed 12-18-17; 8:45 am]

BILLING CODE 4310-FB-P